COMMITTEE FOR PURCHASE FROM PEOPLE WHO ARE BLIND OR SEVERELY DISABLED

Procurement List; Proposed Additions

AGENCY: Committee for Purchase From People Who Are Blind or Severely Disabled.

ACTION: Proposed additions to procurement list.

SUMMARY: The Committee has received proposals to add to the Procurement List services to be furnished by nonprofit agencies employing persons who are blind or have other severe disabilities.

DATES: Comments be received on or before April 3, 2000.

ADDRESSES: Committee for Purchase From People Who Are Blind or Severely Disabled, Crystal Gateway 3, Suite 310, 1215 Jefferson Davis Highway, Arlington, Virginia 22202-4302.

FOR FURTHER INFORMATION CONTACT: Louis R. Bartalot (703) 603-7740.

SUPPLEMENTARY INFORMATION: This notice is published pursuant to 41 U.S.C. 47(a)(2) and 41 CFR 51-2.3. Its purpose is to provide interested persons an opportunity to submit comments on the possible impact of the proposed actions.

If the Committee approves the proposed additions, all entities of the Federal Government (except as otherwise indicated) will be required to procure the services listed below from nonprofit agencies employing persons who are blind or have other severe disabilities.

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List. Comments on this certification are invited. Commenters should identify the statement(s) underlying the certification on which they are providing additional information.

The following services have been proposed for addition to Procurement List for production by the nonprofit agencies listed:

Base Supply Center

Key West Naval Air Station, Key West, Florida

NPA: Industries for the Blind, Inc., Milwaukee, Wisconsin

Customization and Distribution of Navy Recruiting Promotional Merchandise

Department of the Navy, FISC Norfolk, Detachment Washington DC, Washington, DC

NPA: Industries for the Blind, Inc., Milwaukee, Wisconsin

Grounds Maintenance

Veterans Affairs Medical Center, 800 Zorn Avenue, Louisville, Kentucky

NPA: C. G. M. Services, Inc., Louisville, Kentucky

Installation Support Services

Basewide, Fort Hood, Texas

NPA: Training, Rehabilitation & Development Institute, Inc., San Antonio, Texas

Landscape Maintenance

National Oceanic and Atmospheric Administration, Western Regional Center (WRC), 7600 Sand Point Way N.E., Seattle, Washington

NPA: AtWork!, Issaquah, Washington

Operation of HAZMART

Little Rock Air Force Base, Arkansas

NPA: Alphapointe Association for the Blind, Kansas City, Missouri

Switchboard Operation

Department of Veterans Affairs Medical Center, 510 East Stoner Avenue, Shreveport, Louisiana

NPA: North Louisiana Goodwill Industries & Rehabilitation Center, Inc., Shreveport, Louisiana

Louis R. Bartalot,
Deputy Director (Operations).

[FR Doc. 00-5206 Filed 3-2-00; 8:45 am]

BILLING CODE 6353-01-P